FEDERAL COMMUNICATIONS COMMISSION

[DA 01-1561]

Low Power Television Auction No. 81—Mutually Exclusive Proposals—Settlement Window Extended to August 23, 2001

AGENCY: Federal Communications Commission.

ACTION: Notice.

SUMMARY: This document provides notice that the settlement window for proposals filed during the limited low power television/television translator/Class A television auction filing window has been extended to August 23, 2001.

DATES: Settlements must now be submitted by August 23, 2001.

FOR FURTHER INFORMATION CONTACT: Shaun Maher, Video Services Division, Mass Media Bureau at (202) 418-1600.

SUPPLEMENTARY INFORMATION: This is a summary of a Public Notice released July 2, 2001. The complete text of the Public Notice, including attachment, is available for public inspection and copying during normal business hours in the FCC Reference Center (Room CY-A257), 445 12th Street, SW, Washington, DC. It may also be purchased from the Commission's copy contractor, International Transcription Services, Inc. (ITS, Inc.) 1231 20th Street, NW, Washington, DC 20035, (202) 857-3800. It is also available on the Commission's web site at http://www.fcc.gov.

In this Public Notice, the Mass Media Bureau extends the settlement window for those proposals filed during the limited low power television, television translator, and Class A television auction filing window that are mutually exclusive. Parties now have until August 23, 2001, to file a settlement if they desire to avoid going to auction.

Federal Communications Commission.
Roy J. Stewart,
Chief, Mass Media Bureau.

[FR Doc. 01-18582 Filed 7-24-01; 8:45 am]

BILLING CODE 6712-01-P